DEPARTMENT OF EDUCATION

[CFDA No. 84.170A]

Office of Postsecondary Education: Jacob K. Javits Fellowship Program; Notice Inviting Applications for New Awards for Fiscal Year (FY) 2002

Purpose of Program: The purpose of the Jacob K. Javits Fellowship (JKJ) Program is to award fellowships to eligible students of superior ability, selected on the basis of demonstrated achievement, financial need, and exceptional promise to undertake graduate study leading to a doctoral degree or a Master of Fine Arts (MFA) at accredited institutions of higher education in selected fields of the arts, humanities, or social sciences. The selected fields in the arts are: Creative writing, music performance, music theory, music composition, music literature, studio arts (including photography), television, film, cinematography, theater arts, playwriting, screenwriting, acting, and dance. The selected fields in the humanities are: art history (including architectural history), archeology, area studies, classics, comparative literature, English language and literature, folklore, folklife, foreign languages and literature, history, linguistics, philosophy, religion, speech, rhetoric, and debate. The selected fields in the social sciences are: anthropology, communications and media, economics, ethnic and cultural studies, geography, political science, psychology but not clinical psychology, public policy and public administration, sociology but not the masters or Ph.D. in social work.

Eligible Applicants: Individuals, who at the time of application, have not yet completed their first full year of doctoral or MFA study; or will be entering graduate school in academic year 2002-2003 are eligible to apply for a Javits Fellowship. Applicants must also qualify to receive Federal student financial assistance pursuant to section 484 of the Higher Education Act, as amended, and plan to attend an accredited U.S. institutions of higher education.

Applications Available: September 28, 2001. 2002 Free Application for Federal Student Aid, January 2, 2001.

Deadline for Transmittal of Applications: November 30, 2001. 2002 Free Application for Federal Student Aid, January 31, 2002.

Estimated Available Funds: The Administration has requested $10,000,000 for this program for FY 2002. The actual level of funding, if any, depends on final congressional action. However, we are inviting applications to allow enough time to complete the grant process if Congress appropriates funds for this program.

Estimated Average Size of Awards: $31,672.

Estimated Number of Awards: 60 individual fellowships.

Note: The Department is not bound by any estimates in this notice.

Project Period: Up to 48 months.

Applicable Regulations: (a) The Education Department General Administrative Regulations (EDGAR) in 34 CFR parts 74, 75 (except as provided in 34 CFR 650.3(b)), 77, 82, 85, 86, 97, 98 and 99; and (b) The regulations for this program in 34 CFR part 650.

Supplementary Information:

Stipend Level: The Secretary will determine the JKJ fellowship stipend for the academic year 2002-2003 based on the level of support provided by the National Science Foundation (NSF) graduate fellowships, except that the amount will be adjusted as necessary so as not to exceed the JKJ fellow's demonstrated level of financial need.

Institutional Payment: The Secretary will determine the institutional payment for the academic year 2002-2003 by adjusting the academic year 2001-2002 institutional payment, which was $10,857 per fellow, by the U.S. Department of Labor's Consumer Price Index for the previous year. The institutional payment will be reduced by the amount an institution charges and collects from a fellowship recipient for tuition and fees.

For Applications Contact: Federal Student Aid Information Center, P.O. Box 84, Washington, DC 20044-0084. Telephone (toll free): 1-800-433-3243, FAX: (319) 358-4316 or via Internet: SFAMail@ed.gov.

If you use a telecommunications device for the deaf (TDD), you may call the TDD number (toll free) at 1-800-730-8913.

For Further Information Contact: Carolyn Proctor, Jacob K. Javits Fellowship Program, U.S. Department of Education, International Education and Graduate Programs Service, 1990 K St., NW., Suite 6000, Washington, DC 20006-8521. Telephone: (202) 502-7542. The e-mail address for the JKJ Program is: ope_javits_program@ed.gov.

If you use a telecommunications device for the deaf (TDD), you may call the Federal Information Relay Service (FIRS) at 1-800-877-8339.

Individuals with disabilities may obtain this document in an alternative format (e.g., Braille, large print, audiotape, or computer diskette) on request to the program contact person listed under For Further Information Contact.

Individuals may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 1134-1134d.

Dated: September 21, 2001.
Maureen A. McLaughlin,
Deputy Assistant Secretary for Policy, Planning and Innovation, Office of Postsecondary Education.

[FR Doc. 01-24170 Filed 9-26-01; 8:45 am]

BILLING CODE 4000-01-U